DEPARTMENT OF HOUSING AND URBAN DEVELOPMENT

[Docket No. FR-4665-N-07]

Third Meeting of the Manufactured Housing Consensus Committee

AGENCY: Office of the Assistant Secretary for Housing—Federal Housing Commissioner, HUD.

ACTION: Notice of upcoming meeting.

SUMMARY: This notice sets forth the schedule and proposed agenda of an upcoming meeting of the Manufactured Housing Consensus Committee (the Committee). The meeting is open to the public and the site is accessible to individuals with disabilities.

DATES: The meetings will be held on Tuesday, March 4, 2003, from 8 a.m. to 5 p.m., Wednesday, March 5, 2003, from 8 a.m. to 5 p.m., and Thursday, March 6, 2003, 8 a.m to 4:15 p.m.

ADDRESSES: These meetings will be held at the Hyatt Regency Dallas Fort Worth (DFW), International Parkway (inside DFW International Airport), Dallas, Texas, telephone (972) 453-1234.

FOR FURTHER INFORMATION CONTACT: William W. Matchneer III, Administrator, Office of Manufactured Housing Programs, Office of Deputy Assistant Secretary for Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App.2) and 41 CFR 102-3.150. The Manufactured Housing Consensus Committee was established under section 604(a)(3) of the National Manufactured Housing Construction and Safety Standards Act of 1974, 42 U.S.C. 4503(a)(3). The Consensus Committee is charged with providing recommendations to the Secretary to adopt, revise, and interpret manufactured housing construction and safety standards and procedural and enforcement regulations, and with developing proposed model installation standards. The purpose of this meeting is to begin the development of proposed model manufactured home installation standards.

Tentative Agenda

A. Welcome and Introductions

B. Presentation on Duties of Congress of State Administrative Agencies

C. Presentation on Oregon's Installation Set-up Program

D. Installation Standards

E. Dispute Resolution

Dated: February 10, 2003.
John C. Weicher,
Assistant Secretary for Housing—Federal Housing Commissioner.

[FR Doc. 03-3776 Filed 2-13-03; 8:45 am]

BILLING CODE 4210-27-P